GENERAL SERVICES ADMINISTRATION

[OMB Control No. 3090-0262; Docket No. 2024-0001; Sequence No. 6]

Information Collection; General Services Administration Acquisition Regulation; Identification of Products with Environmental Attributes

AGENCY: Office of Acquisition Policy, General Services Administration (GSA).

ACTION: Notice of request for comments regarding an extension of an existing OMB clearance.

SUMMARY: Under the provisions of the Paperwork Reduction Act the Regulatory Secretariat Division will be submitting to the Office of Management and Budget (OMB) a request to review and approve an extension of an information collection requirement regarding identification of products with environmental attributes.

DATES: Submit comments on or before: August 20, 2024.

ADDRESSES: Submit comments identified by Information Collection 3090-0262; Identification of Products with Environmental Attributes to: http://www.regulations.gov.

Submit comments via the Federal eRulemaking portal by searching for “Information Collection 3090-0262, Identification of Products with Environmental Attributes”. Select the link “Submit a Comment” that corresponds with “Information Collection 3090-0262, Identification of Products with Environmental Attributes”. Follow the instructions provided at the “Submit a Comment” screen. Please include your name, company name (if any), and “Information Collection 3090-0262, Identification of Products with Environmental Attributes” on your attached document. If your comment cannot be submitted using https://www.regulations.gov, call or email the points of contact in the FOR FURTHER INFORMATION CONTACT section of this document for alternate instructions.

Instructions: Please submit comments only and cite Information Collection 3090-0262, Identification of Products with Environmental Attributes, in all correspondence related to this collection. All comments received will be posted without change to http://www.regulations.gov, including any personal and/or business confidential information provided. To confirm receipt of your comment(s), please check www.regulations.gov, approximately two-to-three days after submission to verify posting.

FOR FURTHER INFORMATION CONTACT: Ms. Adina Torberntsson, Program Analyst, General Services Acquisition Policy Division, GSA, via email to adina.torberntsson@gsa.gov or 720-475-0568.

SUPPLEMENTARY INFORMATION:

A. Purpose

The General Services Administration requires contractors holding Multiple Award Schedule Contracts to identify in their GSA price lists those products that they market commercially that have environmental attributes in accordance with GSAR clause 552.238-78. The identification of these products will enable Federal agencies to maximize the use of these products and meet the responsibilities expressed in statutes and executive order.

B. Annual Reporting Burden

Respondents: 934.

Responses per Respondent: 1.

Annual Responses: 934.

Hours per Response: 1.

Total Burden Hours: 934.

C. Public Comments

Public comments are particularly invited on: Whether this collection of information is necessary and whether it will have practical utility; whether our estimate of the public burden of this collection of information is accurate and based on valid assumptions and methodology; and ways to enhance the quality, utility, and clarity of the information to be collected; and ways in which we can minimize the burden of the collection of information on those who are to respond, through the use of appropriate technological collection techniques or other forms of information technology.

Obtaining Copies of Proposals: Requesters may obtain a copy of the information collection documents from the Regulatory Secretariat Division by calling 202-501-4755 or emailing GSARegSec@gsa.gov. Please cite OMB Control No. 3090-0262, Identification of Products with Environmental Attributes, in all correspondence.

Jeffrey A. Koses,
Senior Procurement Executive, Office of Acquisition Policy, Office of Government-wide Policy, General Services Administration.

[FR Doc. 2024-13682 Filed 6-20-24; 8:45 am]

BILLING CODE 6820-61-P